DEPARTMENT OF AGRICULTURE

Animal and Plant Health Inspection Service

[Docket No. APHIS-2016-0007]

Secretary's Advisory Committee on Animal Health; Meeting

AGENCY: Animal and Plant Health Inspection Service, USDA.

ACTION: Notice of meeting.

SUMMARY: This is a notice to inform the public of an upcoming meeting of the Secretary's Advisory Committee on Animal Health. The meeting is being organized by the Animal and Plant Health Inspection Service to discuss matters of animal health.

DATES: The meeting will be held February 23, 24, and 25, 2016, from 9 a.m. to 5 p.m. central standard time.

ADDRESSES: The meeting will be held at the Marriott Dallas/Addison Quorum, 14901 Dallas Parkway, Dallas, TX 75254.

FOR FURTHER INFORMATION CONTACT: Mrs. R.J. Cabrera, Designated Federal Officer, VS, APHIS, 4700 River Road Unit 34, Riverdale, MD 20737; phone (301) 851-3478; email: SACAH.Management@aphis.usda.gov.

SUPPLEMENTARY INFORMATION: The Secretary's Advisory Committee on Animal Health (the Committee) advises the Secretary of Agriculture on matters of animal health, including means to prevent, conduct surveillance on, monitor, control, or eradicate animal diseases of national importance. In doing so, the Committee will consider public health, conservation of natural resources, and the stability of livestock economies.

Tentative topics for discussion at the meeting include:

• Chronic Wasting Disease Program;

• One Health

○ Zoonotic Diseases,

○ National List of Reportable Animal Diseases, and

○ U.S. Department of Agriculture Antimicrobial Resistance Action Plan;

• Scrapie Program;

• Foot and Mouth Disease Vaccine Availability;

• Emerging Disease Response; and

• Comprehensive Integrated Animal Health Surveillance.

A final agenda will be posted on the Committee Web site by February 15, 2016.

Those wishing to attend the meeting in person must complete a brief registration form by clicking on the “SACAH Meeting Sign-up” button on the Committee's Web site (http://www.aphis.usda.gov/animalhealth/sacah). Members of the public may also join the meeting via teleconference in “listen-only” mode. Participants who wish to listen in on the teleconference may do so by dialing 1-800-619-4086 and then entering the public passcode, 2236462#.

Due to time constraints, members of the public will not have an opportunity to participate in the Committee's discussions. However, questions and written statements for the Committee's consideration may be submitted up to 5 working days before the meeting. They may be sent to SACAH.Management@aphis.usda.gov or mailed to the person listed in this notice under FOR FURTHER INFORMATION CONTACT. Statements filed with the Committee must include the name of the individual listed under FOR FURTHER INFORMATION CONTACT, the docket number listed in this notice, and specify that they pertain to the February 2016 Committee meeting.

This notice of meeting is given pursuant to section 10 of the Federal Advisory Committee Act (5 U.S.C. App. 2).

Done in Washington, DC, this 3rd day of February 2016.
Kevin Shea,
Administrator, Animal and Plant Health Inspection Service.

[FR Doc. 2016-02464 Filed 2-5-16; 8:45 am]

BILLING CODE 3410-34-P